DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 76 FR 34075, dated June 10, 2011) is amended to reflect the establishment of the Office of Minority Health and Health Equity (CAW), Office of the Director (CA), Centers for Disease Control and Prevention (C). This will align this office as a direct report to the Director, Centers for Disease Control and Prevention (CDC), pursuant to passage of the Patient Protection and Affordable Care Act (Pub. L. 111-148).

I. Section C-B, Organization and Functions, is hereby amended as follows:

Under Part C, Centers for Disease Control and Prevention (C), Office of the Director (CA), add the following organizational unit after the Office of Diversity Management and Equal Employment Opportunity (CAV):

Office of Minority Health and Health Equity (CAW): The mission of the Office of Minority Health and Health Equity (OMHHE) is to accelerate CDC's health impact in the U.S population and to eliminate health disparities for vulnerable populations as defined by race/ethnicity, socio-economic status, geography, gender, age, disability status, risk status related to sex and gender, and among other populations that are identified as at-risk for health disparities. As the Office of the Director's organizational focus for eliminating health disparities, OMHHE: (1) Provides leadership for CDC-wide policies, strategies, action planning, implementation and evaluation to eliminate health disparities; (2) coordinates CDC's response to Presidential Executive Orders, Congressional mandates, Secretarial and HHS/ASH/OPHS Initiatives, and provides timely performance reports on minority health and health equity as required; (3) monitors and reports on the health status of vulnerable populations and the effectiveness of health protection programs; (4) evaluates the impact of policies and programs to achieve health disparities elimination; (5) supports internal/external partnerships to advance the science, practice and workforce for eliminating health disparities inside/outside CDC; (6) maintains critical linkages with federal partners including the Office of the Secretary, Department of Health and Human Services, and represents CDC on related scientific and policy committees; (7) establishes external advisory capacity and internal advisory and action capacity; (8) improves support of efforts to improve minority health and achieve health equity in the U.S. by collaborating with CDC's National Centers and other entities; (9) synthesizes, disseminates, and encourages use of scientific evidence regarding effective interventions to achieve health disparities elimination outcomes; (10) analyzes trends in and determinants of health disparities to provide decision support to CDC's Executive Leadership in allocating CDC resources to agency-wide programs for surveillance, research, intervention and evaluation; (11) positions CDC to address relevant provisions in the 2010 Patient Protection and Affordable Care Act that address health disparities; (12) strengthens CDC's global health work to achieve equity; (13) supports CDC's response to public health emergencies in vulnerable populations; and (14) ensures administrative effectiveness and efficiency of agency-wide efforts to achieve health equity.

II. Delegation of Authority: All delegations and redelegations of authority made to officials and employees of affected organizational components will continue in them or their successors pending further redelegation, provided they are consistent with this reorganization.

Authority: 44 U.S.C. 3101.

Dated: July 27, 2011.
Carlton Duncan,
Acting Chief Operating Officer, Centers for Disease Control and Prevention.

[FR Doc. 2011-19739 Filed 8-3-11; 8:45 am]

BILLING CODE 4160-18-M